SECURITIES AND EXCHANGE COMMISSION

[Release No. 34-55824; File No. SR-Amex-2007-52]

Self-Regulatory Organization; American Stock Exchange LLC; Notice of Filing and Immediate Effectiveness of Proposed Rule Change Relating to Floor Broker Zone Requirements in AEMI

June 4, 2007.

Correction

In FR Doc. No. E7-10680, beginning on page 30891 for Monday, June 4, 2007, the release number was incorrectly stated as 34-58824. The correct release number appears above.

Florence E. Harmon,
Deputy Secretary.

[FR Doc. E7-10980 Filed 6-6-07; 8:45 am]

BILLING CODE 8010-01-P